SECURITIES AND EXCHANGE COMMISSION

[Release No. 34-87185; File No. SR-NYSEArca-2019-64]

Self-Regulatory Organizations; NYSE Arca Inc.; Notice of Withdrawal of Proposed Rule Change To Amend the NYSE Arca Options Fee Schedule To Revise the Options Regulatory Fee

October 1, 2019.

On August 30, 2019, NYSE Arca, Inc. (“Exchange”) filed with the Securities and Exchange Commission (“Commission”), pursuant to Section 19(b)(1) of the Securities Exchange Act of 1934 (“Act”),¹ and Rule 19b-4 thereunder,² a proposed rule change to amend the Exchange's fee schedule to revise the Options Regulatory Fee charged for August 30, 2019. The proposed rule change was immediately effective upon filing with the Commission pursuant to Section 19(b)(3)(A) of the Act.³ The proposed rule change was published for comment in the Federal Register on September 19, 2019.⁴ The Commission received one comment letter on the proposal from the Exchange noting that it planned to withdraw File No. SR-NYSEArca-2019-64.⁵ On September 18, 2019, the Exchange withdrew the proposed rule change (SR-NYSEArca-2019-64).

¹ 15 U.S.C. 78s(b)(1).

² 17 CFR 240.19b-4.

³ 15 U.S.C. 78s(b)(3)(A).

⁴ See Securities Exchange Act Release No. 86961 (September 13, 2019), 84 FR 49356.

⁵ See Letter to Vanessa Countryman, Secretary, Commission, from Martha Redding, Associate General Counsel and Assistant Secretary, Exchange, dated September 17, 2019.

For the Commission, by the Division of Trading and Markets, pursuant to delegated authority.⁶
⁶ 17 CFR 200.30-3(a)(12).
Jill M. Peterson,
Assistant Secretary.

[FR Doc. 2019-21731 Filed 10-4-19; 8:45 am]

BILLING CODE 8011-01-P